DEPARTMENT OF ENERGY

Federal Energy Regulatory Commission

[Docket No. RP04-239-000]

Texas Eastern Transmission, LP; Notice of Tariff Filing

April 6, 2004.

Take notice that on March 31, 2004, Texas Eastern Transmission, LP (Texas Eastern) tendered for filing as part of its FERC Gas Tariff, Seventh Revised Volume No. 1, First Revised Sheet No. 525, to be effective May 1, 2004.

Texas Eastern states that the purpose of this filing is to modify section 3.13(A) of the General Terms and Conditions of its Tariff to reflect the assignment of North Jersey Energy Associates' Rate Schedule FTS-5 Service Agreement to Public Service Electric & Gas Company effective May 1, 2004.

Texas Eastern states that copies of its filing have been served upon to all affected customers and interested State commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-807 Filed 4-12-04; 8:45 am]

BILLING CODE 6717-01-P